DEPARTMENT OF ENERGY

Federal Energy Regulatory Commission

[Project No. 405-105]

Exelon Generation Company, LLC; Notice of Application for Amendment of License and Soliciting Comments, Motions To Intervene and Protests

Take notice that the following hydroelectric application has been filed with the Commission and is available for public inspection:

a. Application Type: Temporary variance of minimum flow requirement of license.

b. Project No: 400-105.

c. Date Filed: July 25, 2012.

d. Applicant: Exelon Generation Company, LLC.

e. Name of Project: Conowingo Hydroelectric Project.

f. Location: The Conowingo Project is located on the Susquehanna River in Harford and Cecil counties in Maryland, and York and Lancaster counties in Pennsylvania.

g. Filed Pursuant to: Federal Power Act, 16 U.S.C. 791(a)-825(r).

h. Applicant Contact: Ms. Kathleen Barrón, Senior Vice President-Federal Regulatory Affairs and Wholesale Market Policy, Exelon, 101 Constitution Avenue NW., Suite 400 East, Washington, DC 20001, (202) 347-7500, kathleen.barron@exeloncorp.com.

i. FERC Contact: Ms. Kelly Houff at 202-502-6393, kelly.houff@ferc.gov.

j. Deadline for filing comments, motions to intervene, and protests: September 20, 2012.

All documents may be filed electronically via the Internet. See, 18 CFR 385.2001(a)(1)(iii) and the instructions on the Commission's Web site at http://www.ferc.gov/docs-filing/efiling.asp. If unable to be filed electronically, documents may be paper-filed. To paper-file, an original and seven copies should be mailed to: Secretary, Federal Energy Regulatory Commission, 888 First Street NE., Washington, DC 20426. Commenters can submit brief comments up to 6,000 characters, without prior registration, using the eComment system at http://www.ferc.gov/docs-filing/ecomment.asp. You must include your name and contact information at the end of your comments.

Please include the project number (P-405-105) on any comments, motions, or recommendations filed.

k. Description of Request: Exelon Generation Company, LLC requests Commission approval for a variance of the minimum flow requirement of the project license. Due to drought conditions and low river flows in the Susquehanna River, Exelon requests that they be allowed immediately to include plant leakage of about 530 cubic feet per second (cfs) in the required minimum flow discharge until September 14, 2012, or until flow conditions improve where the Conowingo Project no longer requires leakage be included as part of the minimum flow requirement. According to the license, for the period June 1 through September 14, annually, Exelon must provide a minimum flow release (not including leakage) below the dam of 5,000 cfs, or inflow (as measured at the USGS gage 0156000 at Marietta, PA), whichever is less. During the fall period, September 15 through November 30, Exelon is required to release a minimum flow of 3,500 cfs not including leakage, or inflow to the project whichever is less, as measured at the Marietta gage.

Exelon is concerned about the ability of the Conowingo Project to maintain an adequate pond level and storage capacity during the current low flow period. Maintaining storage is necessary for generation and to ensure an adequate water supply for recreational and consumptive uses of the Conowingo Reservoir to include operation of Peach Bottom Atomic Power Station and Muddy Run Pumped Storage Project. Including plant leakage in the minimum flow discharge will contribute to the maintenance of these project water uses during this low flow period. During the period of the minimum flow variance, Exelon will conduct daily monitoring of the Susquehanna River below the dam for potential environmental effects. If any abnormal or adverse conditions are observed, Exelon will promptly notify the Maryland Department of Natural Resources. In addition, Exelon agrees that during the period of the variance, it will not operate more than two units, each rated at 54,000 horsepower, unless PJM Interconnection LLC directs Exelon to operate in peaking mode: (1) As a result of a system emergency; or (2) to manage Conowingo pond levels.

l. Locations of the Application: A copy of the application is available for inspection and reproduction at the Commission's Public Reference Room, located at 888 First Street NE., Room 2A, Washington, DC 20426, or by calling 202-502-8371. This filing may also be viewed on the Commission's Web site at http://www.ferc.gov using the “eLibrary” link. Enter the docket number excluding the last three digits in the docket number field to access the document. You may also register online at http://www.ferc.gov/docs-filing/esubscription.asp to be notified via email of new filings and issuances related to this or other pending projects. For assistance, call 866-208-3676 or email FERCOnlineSupport@ferc.gov, for TTY, call 202-502-8659. A copy is also available for inspection and reproduction at the address in item (h) above.

m. Individuals desiring to be included on the Commission's mailing list should so indicate by writing to the Secretary of the Commission.

n. Comments, Protests, or Motions to Intervene: Anyone may submit comments, a protest, or a motion to intervene in accordance with the requirements of Rules of Practice and Procedure, 18 CFR 385.210, .211, .214. In determining the appropriate action to take, the Commission will consider all protests or other comments filed, but only those who file a motion to intervene in accordance with the Commission's Rules may become a party to the proceeding. Any comments, protests, or motions to intervene must be received on or before the specified comment date for the particular application.

o. Filing and Service of Responsive Documents: Any filing must (1) bear in all capital letters the title “COMMENTS”; “PROTESTS”, or “MOTION TO INTERVENE” as applicable; (2) set forth in the heading the name of the applicant and the project number of the application to which the filing responds; (3) furnish the name, address, and telephone number of the person protesting or intervening; and (4) otherwise comply with the requirements of 18 CFR 385.2001 through 385.2005. All comments, motions to intervene, or protests must set forth their evidentiary basis and otherwise comply with the requirements of 18 CFR 4.34(b). Agencies may obtain copies of the application directly from the applicant. A copy of any protest or motion to intervene must be served upon each representative of the applicant specified in the particular application. If an intervener files comments or documents with the Commission relating to the merits of an issue that may affect the responsibilities of a particular resource agency, they must also serve a copy of the document on that resource agency. A copy of all other filings in reference to this application must be accompanied by proof of service on all persons listed in the service list prepared by the Commission in this proceeding, in accordance with 18 CFR 4.34(b) and 385.2010.

Dated: September 5, 2012.
Kimberly D. Bose,
Secretary.

[FR Doc. 2012-22327 Filed 9-10-12; 8:45 am]

BILLING CODE 6717-01-P